NATIONAL SCIENCE FOUNDATION

Proposal Review for Environmental Biology; Notice of Meeting

This notice is being published in accord with the Federal Advisory Committee Act (Pub. L. 92-463, as amended). The Chemistry Division will be holding panel meetings to review and evaluate research proposals. The dates and types of proposals being reviewed are:

Name: Proposal Review for Environmental Biology (#10744).

Date and Time: September 25, 2002—8 a.m.-12 noon (Open), 1 pm-5 p.m. (Closed); September 26, 2002—8 am-5 p.m. (Closed).

Place: University of California, Santa Barbara.

Type of Meeting: Part-Open.

Contract Person: Mark W. Courtney, Program Director, Division of Environmental Biology, National Science Foundation, 4201 Wilson Blvd., Arlington, VA 22230, telephone (703) 292-7187.

Purpose of Meetings: To provide advice and recommendations regarding the effectiveness and the center and its value to the scientific community.

Agenda: The Center for Ecological Analysis and Syntheses (CEAS) will be making general presentations during the open session. During the closed session the committee will review and evaluate the progress of the CEAS.

Reason for Closing: This review will include information of a proprietary or confidential nature, including technical information; financial data, such as salaries, and personal information concerning individuals associated with the proposals. These matters are exempt under 5 U.S.C. 552b(c)(4) and (6) of the Government in the Sunshine Act.

Dated: August 27, 2002.
Susanne Bolton,
Committee Management Officer.

[FR Doc. 02-22311 Filed 8-30-02; 8:45 am]

BILLING CODE 7555-01-M